ENVIRONMENTAL PROTECTION AGENCY

40 CFR Parts 174 and 180

[EPA-HQ-OPP-2022-0161; FRL-9410-04-OCSPP]

Receipt of Pesticide Petitions Filed for Residues of Pesticide Chemicals in or on Various Commodities—July 2022

AGENCY: Environmental Protection Agency (EPA).

ACTION: Notices of filing of petitions and request for comment.

SUMMARY: This document announces the Agency's receipt of initial filings of pesticide petitions requesting the establishment or modification of regulations for residues of pesticide chemicals in or on various commodities.

DATES: Comments must be received on or before September 29, 2022.

ADDRESSES: Submit your comments, identified by docket identification (ID) number and the pesticide petition (PP) of interest identified in Unit II., through the Federal eRulemaking Portal at https://www.regulations.gov. Follow the online instructions for submitting comments. Do not submit electronically any information you consider to be Confidential Business Information (CBI) or other information whose disclosure is restricted by statute. For the latest status information on EPA/DC services and access, visit https://www.epa.gov/dockets.

FOR FURTHER INFORMATION CONTACT: Marietta Echeverria, Registration Division (RD) (7505T), main telephone number: (202) 566-1030, email address: RDFRNotices@epa.gov. The mailing address is Office of Pesticide Programs, Environmental Protection Agency, 1200 Pennsylvania Ave. NW, Washington, DC 20460-0001. As part of the mailing address, include the contact person's name, division, and mail code.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit CBI to EPA through https://www.regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at https://www.epa.gov//epa-dockets.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing receipt of pesticide petitions filed under section 408 of the Federal Food, Drug, and Cosmetic Act (FFDCA), 21 U.S.C. 346a, requesting the establishment or modification of regulations in 40 CFR part 174 or part 180 for residues of pesticide chemicals in or on various food commodities. The Agency is taking public comment on the requests before responding to the petitioners. EPA is not proposing any particular action at this time. EPA has determined that the pesticide petitions described in this document contain data or information prescribed in FFDCA section 408(d)(2), 21 U.S.C. 346a(d)(2), and 40 CFR 180.7(b); however, EPA has not fully evaluated the sufficiency of the submitted data at this time or whether the data supports granting of the pesticide petitions. After considering the public comments, EPA intends to evaluate whether and what action may be warranted. Additional data may be needed before EPA can make a final determination on these pesticide petitions.

Pursuant to 40 CFR 180.7(f), summaries of the petitions that are the subject of this document, prepared by the petitioners, are included in dockets EPA has created for these rulemakings. The dockets for these petitions are available at https://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

A. Amended Tolerances for Non-Inerts

PP 1F8970. EPA-HQ-OPP-2022-0493. Syngenta Crop Protection, LLC., P.O. Box 18300, Greensboro, NC 27419-8300, requests to establish a tolerance in 40 CFR part 180 for residues of the fungicide, mefenoxam in or on leafy greens subgroup, 4-16A (except spinach) at 5 parts per million (ppm); brassica leafy greens subgroup 4-16B at 5 ppm; brassica head and stem vegetable crop group 5-16 at 2 ppm; stalk and stem vegetable subgroup 22A (except celtuce, florence fennel and kohlrabi) at 7 ppm; celtuce at 5 ppm; florence fennel at 5 ppm; kohlrabi at 2 ppm; leaf petiole vegetable subgroup 22B at 5 ppm; fruiting vegetables subgroup 8-10 at 1 ppm; succulent shelled pea and bean crop subgroup 6B at 0.2 ppm; and cottonseed crop subgroup 20C at 0.1 ppm. The analytical method Syngenta Crop Protection Analytical Method “Link K (2016) Metalaxyl—Analytical Method GRM075.01A for the Determination of Residues of Metalaxyl on Structurally Related Metabolites as Common Moiety 2,6-Dimethylaniline (CGA72649) in Crops” is used to measure and evaluate the chemical mefenoxam. Contact: RD.

B. New Tolerance Exemptions for Inerts (Except PIPs)

1. PP IN-11671. EPA-HQ-OPP-2022-0505. Eastman Chemical Company, c/o SciReg, Inc., 12733 Director's Loop, Woodbridge, VA 22192, requests to establish an exemption from the requirement of a tolerance in 40 CFR part 180.960 for residues of 1,3-Benzenedicarboxylic acid, 5-sulfo-, sodium salt (1:1), polymer with 1,3-benzenedicarboxylic acid, 1,4-cyclohexanedimethanol and 2,2′-oxybis[ethanol] (CAS Reg. No. 54590-72-6), when used as a pesticide inert ingredient (dispersant and/or emulsifier) in pesticide formulations. The petitioner believes no analytical method is needed because it is not required for an exemption from the requirement of a tolerance. Contact: RD.

2. PP IN-11672. EPA-HQ-OPP-2022-0596. Milliken Chemical, A Division of Milliken & Company, 920 Milliken Road, Spartanburg, SC 29303, requests to establish an exemption from the requirement of a tolerance for residues of poly(oxy-1,2-ethanediyl), α,α′-[[[4-[2-(4-methyl-2-benzothiazolyl)diazenyl]phenyl]imino]di-2,1-ethanediyl]bis[ω-hydroxy- (CAS Reg. No. 158172-12-4) when used as a pesticide inert ingredient (colorant) in pesticide formulations applied pre- and post-harvest under 40 CFR 180.910. The petitioner believes no analytical method is needed because it is not required for an exemption from the requirement of a tolerance. Contact: RD.

3. PP IN-11698. EPA-HQ-OPP-2022-0595. Spring Regulatory Sciences, 6620 Cypresswood Dr., Suite 250, Spring, TX 77379 on behalf of Colorants Solutions USA LLC, 4000 Monroe Road, Charlotte, NC 28205, requests to establish an exemption from the requirement of a tolerance for residues of 1,4-bis[[3-[2-(2-hydroxyethoxy)ethoxy]propyl]amino]-9,10-anthracenedione (CAS Reg. No. 123944-63-8) when used as a pesticide inert ingredient (colorant/dye) in pesticide formulations applied pre- and post-harvest under 40 CFR 180.910, in/on animals under 180.930 and use in antimicrobial formulations, food-contact surface sanitizing solutions under 180.940(a). The petitioner believes no analytical method is needed because it is not required for an exemption from the requirement of a tolerance. Contact: RD.

C. New Tolerances for Inerts

PP 1E8945. EPA-HQ-OPP-2021-0853. Corteva Agriscience, 9330 Zionsville Rd., Indianapolis, IN 46268, requests to establish a tolerance in 40 CFR part 180 for residues of the insecticide, sulfoxaflor, in or on the raw agricultural commodity coffee, green bean at 0.3 ppm and coffee, instant at 0.5. The liquid chromatography/mass spectroscopy/mass spectroscopy (LC/MS/MS analysis) is used to measure and evaluate the chemical sulfoxaflor, 1-(6-trifluoromethylpyridin-3-yl) ethyl(methyl)-oxido-λ4-sulfanylidenecyanamide. Contact: RD.

D. New Tolerances for Non-Inerts

1. PP 1E8933. EPA-HQ-OPP-2022-0671. Bayer CropScience, 800 N Lindbergh Blvd., St. Louis, MO 63141, requests to establish a tolerance in 40 CFR part 180 for residues of the insecticide deltamethrin, in or on pea and bean, dried shelled, except soybean (crop group 6c) at 0.07 ppm. The gas chromatography equipped with an electron capture detector (GC/ECD) is used to measure and evaluate the chemical deltamethrin. Contact: RD.

2. PP 1F8971. EPA-HQ-OPP-2022-0493. Syngenta Crop Protection, LLC., P.O. Box 18300, Greensboro, NC 27419-8300, requests to establish a tolerance in 40 CFR part 180 for inadvertent residues of the fungicide, mefenoxam in or on sugarcane at 0.1 ppm. The analytical method Syngenta Crop Protection Analytical Method “Link K (2016) Metalaxyl—Analytical Method GRM075.01A for the Determination of Residues of Metalaxyl on Structurally Related Metabolites as Common Moiety 2,6-Dimethylaniline (CGA72649) in Crops” is used to measure and evaluate the chemical mefenoxam. Contact: RD.

3. PP 1F8977. EPA-HQ-OPP-2022-0575. ADAMA AGAN c/o Makhteshim Agan of North America, Inc. (d/b/a ADAMA), 3120 Highwoods Blvd., Suite 100, Raleigh, NC 27604, requests to establish a tolerance in 40 CFR part 180 for residues of the herbicide metamitron in or on pome fruit (crop group 11-10) at 0.01 ppm. The HPLC employing tandem mass spectrometric (MS/MS) detection (LC-MS/MS) is used to measure and evaluate the chemical metamitron. Contact: RD.

4. PP F8997. EPA-HQ-OPP-2022-0597. Syngenta Crop Protection, LLC, P.O. Box 18300, Greensboro, NC 27419 requests to establish a tolerance in 40 CFR part 180 for residues of the fungicide, Oxathiapiprolin, in or on peanut hay at 0.15 ppm. The adequate analytical methodology, high-pressure liquid chromatography with MS/MS detection, is available for enforcement purposes is used to measure and evaluate the chemical Oxathiapiprolin. Contact: RD.

Authority: 21 U.S.C. 346a.

Dated: August 25, 2022.
Brian Bordelon,
Acting Director, Information Technology and Resources Management Division, Office of Program Support.

[FR Doc. 2022-18675 Filed 8-29-22; 8:45 am]

BILLING CODE 6560-50-P